DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of October 1, 2019 through October 31, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i)(I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,903 | Tahari ASL | Millburn, NJ | October 30, 2017.
94,995 | John Hassall, LLC | Westbury, NY | July 15, 2018.
95,023 | AJ Oster, LLC, Global Brass & Copper, Monroe Staffing, Randstad | Warwick, RI | July 30, 2018.
95,057 | Congoleum Corporation—Marcus Hook | Trainer, PA | August 9, 2018.
95,074 | Pace Industries, Inc., St. Paul (Metalcraft) Division, Pace Industries LLC | Arden Hills, MN | August 13, 2018.
95,077 | Omnimax International, Inc., Specialty Division, Omnimax Holdings, Inc | Helena, AR | August 15, 2018.

The following certifications have been issued. The requirements of Section 222(a)(2)(B) (Shift in Production or Services to a Foreign Country Path or Acquisition of Articles or Services from a Foreign Country Path) of the Trade Act have been met.

TA-W No. | Subject firm | Location | Impact date
94,684 | Superior Industries International, TEC, WorkSource | Fayetteville, AR | April 1, 2018.
94,780 | Target Corporation, Finance Process & Technology Division | Minneapolis, MN | May 2, 2018.
94,780A | Target Corporation, Financial Accounting & Reporting Division | Minneapolis, MN | May 2, 2018.
94,780B | Target Corporation, Finance Operations Division | Minneapolis, MN | May 2, 2018.
94,806 | Sysco Hampton Roads Inc., Finance Division | Suffolk, VA | May 10, 2018.
94,843 | Sabre GLBL Inc., Airline Solutions, Professional Services and Consulting Organization, etc | Southlake, TX | May 23, 2018.
94,985 | Sphera Solutions Inc., Genstar Capital, Ascent, TMA Resources | Chicago, IL | July 8, 2018.
95,022 | Glen Gery Corporation, Brickworks NA, Labor Finders | Manassas, VA | July 30, 2018.
95,035 | Adidas America Inc., Finance/Expense Management, Adidas AG, Apex Systems, Tek Systems, etc | Portland, OR | August 1, 2018.
95,050 | Selectra Industries Corporation | Vernon, CA | August 6, 2018.
95,054 | Goodman Company, L.P., Sheet Metal Stamped Parts Division, Fayetteville Facility | Fayetteville, TN | August 7, 2018.
95,078 | Briggs & Stratton Corporation, Global Engines &amp; Power Division, Murray Plant, Hamilton Ryker | Murray, KY | August 15, 2018.
95,100 | iHealth Solutions, LLC dba Advantum Health | Louisville, KY | August 21, 2018.
95,108 | MC Electronics, LLC | Hollister, CA | August 22, 2018.
95,119 | Riverbend Foods LLC | Pittsburgh, PA | August 23, 2018.
95,126 | Insourcing Specialists Inc., Columbia Forest Products, Manpower | Salem, OR | August 27, 2018.
95,150 | Bridgestone Americas, Inc., Shared Business Services, Kelly Services, Robert Half, Insight Global | Antioch, TN | September 5, 2018.
95,158 | Keystone Powered Metal Company, Sumitomo Electric Sintered Alloy, Ltd | St. Marys, PA | August 26, 2018.
95,167 | West Corporation, West Unified Communications Services, Inc., West Facilities, LCC, etc | Manassas, VA | September 9, 2018.
95,186 | Westech Building Products (Evansville) LLC, Westlake Chemical Company | Mount Vernon, IN | September 16, 2018.
95,189 | TI Fluid Systems, FTDS division, TI Group Automotive Systems, LLC, Elwood Staffing, Benchmark | Greeneville, TN | September 16, 2018.
95,191 | MTBC-Med, Incorporated, MTBC Incorporated | Somerset, NJ | April 14, 2019.
95,195 | Trelleborg Coated Systems, Printing Solutions Division, Second LAC, Inc | Morristown, TN | September 19, 2018.
95,196 | West Corporation, West Unified Communications Services, Inc., West Facilities, LCC, etc | West Point, GA | September 19, 2018.
95,197 | Comscore-Portland, Comscore, Inc | Portland, OR | September 20, 2018.
95,197A | Comscore-Reston, Comscore, Inc | Reston, VA | September 20, 2018.
95,198 | IBM Cognitive Applications, IBM Research division, IBM | Beaverton, OR | September 20, 2018.
95,199 | Kennametal Inc | Irwin, PA | September 23, 2018.
95,216 | TTEC Healthcare Solutions, Inc., TTEC Holdings, Inc | Temple, TX | September 24, 2018.
95,217 | U.S. Bank, National Association, Consumer & Business Banking Operations Unit, Foreclosure, etc | Owensboro, KY | September 23, 2018.
95,220 | Harman Becker Automotive Systems, HW Validation-Environmental Test, Harman International, Tata, Acro | Farmington Hills, MI | September 25, 2018.
95,222 | Ortho-Clinical Diagnostics, Inc., Ortho-Clinical Diagnostics Bermuda Co. Ltd., Agile 1 | Raritan, NJ | September 24, 2018.
95,224 | U.S. Bank National Association, Consumer &amp; Business Banking Operations Unit, etc | Irving, TX | September 25, 2018.
95,233 | Wells Fargo Bank N.A., Wells Fargo & Company, Payments, Virtual Solutions and Innovation, etc | Shoreview, MN | September 27, 2018.
95,242 | Teva Pharmaceuticals USA, Inc., US TAPI Missouri Division, Teva Pharmaceutical Industries Ltd | Mexico, MO | October 1, 2018.
95,246 | Cochlear Americas, Service & Repair, Cochlear Limited | Centennial, CO | October 2, 2018.
95,252 | USF Reddaway Inc., Corporate Division, YRC Worldwide, Integrity Staffing Solutions, etc | Tualatin, OR | June 23, 2019.
95,257 | Philips Healthcare, Invivo Manufacturing Division | Pewaukee, WI | October 4, 2018.

The following certifications have been issued. The requirements of Section 222(b) (supplier to a firm whose workers are certified eligible to apply for TAA) of the Trade Act have been met.

TA-W No. | Subject firm | Location | Impact date
95,116 | Concentrix CVG Customer Management Group Inc., MSS Program, Concentrix CVG Corporation | Las Cruces, NM | August 23, 2018.

The following certifications have been issued. The requirements of Section 222(e) (firms identified by the International Trade Commission) of the Trade Act have been met.

TA-W No. | Subject firm | Location | Impact date
95,140 | McWane, Inc., AB&I Foundry Division | Oakland, CA | August 29, 2019.

Negative Determinations for Worker Adjustment Assistance

In the following cases, the investigation revealed that the eligibility criteria for TAA have not been met for the reasons specified.

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,991 | Spectrum Oceanic, LLC, Charter Communications, Inc., Charter Communications LLC | Mililani, HI
95,281 | John Deere Davenport Works, Construction and Forestry Division | Davenport, IA

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,497 | American Buildings Company, West Division, Magnatrax Corporation, Nucor Corporation | Carson City, NV
94,611 | The J.G. Hernandez Company, Collard Rose Optical Company, Essilor Laboratories of America Holding Co | Whittier, CA
94,739 | Amphenol Printed Circuits, Amphenol Corporation, Technical Needs | Nashua, NH
94,807 | Asteelflash USA Corp., Raleigh Plant, Asteelflash Group, ResourceMFG, etc | Morrisville, NC
94,863 | Lightspeed Online Research LLC, Kantar Division, Kantar | Bellevue, WA
94,916 | United Healthcare Services, Inc., Benefits Operations (QuEST), United Health Group Incorporated, etc | Minnetonka, MN
95,054A | Goodman Company, L.P., PTAC Division, Fayetteville Facility | Fayetteville, TN
95,061 | United Steelworkers Local 8-676 | Westernport, MD
95,062 | United Structures of America, Inc | Portland, TN
95,109 | Pentair Flow Technologies LLC, Pentair Water Group Inc | Costa Mesa, CA
95,162 | Norfolk Southern Railway Company, Juniata Locomotive Shop, Norfolk Southern Corporation | Altoona, PA
95,175 | Annan Marketing Services, Inc | Overland Park, KS
95,194 | Coorstek, Inc., Kelly Services, Aerotek | Hillsboro, OR
95,208 | Norfolk Southern Railway Company, Shaffers Crossing and East End Shop, Norfolk Southern Corporation | Roanoke, VA
95,232 | Wells Fargo Bank, N.A., Wells Fargo & Company, Business Payroll Services, DISYS, Randstad, etc | Bloomington, MN
95,259 | Norcraft Companies L.P., Fortune Brands Home & Security, Inc., Manpower | Lynchburg, VA
95,304 | Northwest Hardwoods Inc., Littlejohn & Company | Front Royal, VA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,853 | Detroit Renewable Power | Detroit, MI
95,192 | Nestle USA Inc | Glendale Heights, IL

The following determinations terminating investigations were issued because the worker group on whose behalf the petition was filed is covered under an existing certification.

TA-W No. | Subject firm | Location | Impact date
95,151 | Briggs & Stratton Corporation, Global Engines & Power Division, Murray Plant | Murray, KY
95,240 | Workforce Logiq, APC Workforce Solutions LLC | Dallas, TX

The following determinations terminating investigations were issued because the petitioning group of workers is covered by an earlier petition that is the subject of an ongoing investigation for which a determination has not yet been issued.

TA-W No. | Subject firm | Location | Impact date
95,101 | Georgia-Pacific Consumer Operations LLC, Crossett Paper Operations, Georgia Pacific LLC, Koch Industries Inc | Crossett, AR

I hereby certify that the aforementioned determinations were issued during the period of October 1, 2019 through October 31, 2019. These determinations are available on the Department's website https://www.doleta.gov/tradeact/petitioners/taa_search_form.cfm under the searchable listing determinations or by calling the Office of Trade Adjustment Assistance toll free at 888-365-6822.

Signed at Washington, DC, this day 7th of November 2019.
Hope D. Kinglock,
Certifying Officer, Office of Trade Adjustment Assistance.

[FR Doc. 2019-25490 Filed 11-22-19; 8:45 am]

BILLING CODE 4510-FN-P